DEPARTMENT OF TRANSPORTATION

Federal Highway Administration

[Docket No. FHWA-2014-0007]

Agency Information Collection Activities: Request for Comments for a New Information Collection

AGENCY: Federal Highway Administration (FHWA), DOT.

ACTION: Notice and request for comments.

SUMMARY: In compliance with the Paperwork Reduction Act (PRA) of 1995 (44 U.S.C. 3501-3521), this notice announces that FHWA will submit the collection of information described below to the Office of Management and Budget (OMB) for review and comment. The Federal Register Notice with a 60-day comment period soliciting comments on the following collection of information was published on December 20, 2013. The PRA submission describes the nature of the information collection and its expected cost and burden.

DATES: Please submit comments by March 31, 2014.

ADDRESSES: You may submit comments identified by DOT Docket ID 2014-0007 by any of the following methods:

Web site: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE., Washington, DC 20590-0001.

Hand Delivery or Courier: U.S. Department of Transportation, West Building Ground Floor, Room W12-140, 1200 New Jersey Avenue SE., Washington, DC 20590, between 9 a.m. and 5 p.m. ET, Monday through Friday, except Federal holidays.

Crystal Jones, 202-366-2976, Office of Freight Management & Operations (HOFM-1), Office of Operations, Federal Highway Administration, 1200 New Jersey Ave., Room E84-313, Washington, DC 20509. Office hours are from 8:30 a.m. to 5:00 p.m., Monday through Friday, except Federal holidays.

SUPPLEMENTARY INFORMATION: Title: Utilization of the Private Sector for Surveying and Mapping Services Survey.

Background: Section 1517 of MAP-21, the Moving Ahead for Progress in the 21st Century Act (Pub. L. 112-141), requires the Secretary of Transportation to conduct a survey of all States to determine the percentage of projects carried out under title 23, United States Code, in each State that utilize private sector sources for surveying and mapping services. Additionally, Section 306 of Title 23, United States Code, requires the Secretary of Transportation to issue guidance to encourage States to utilize, to the maximum extent practicable, private sector sources for surveying and mapping services for projects under title 23 of the United States Code; and, to develop a process for the oversight and regular monitoring of each State's use of the private sector to provide these services.

The FHWA, via a survey, will be requesting information from the State Transportation Agencies to determine the percent of projects in each state for which private sector sources were utilized for surveying and mapping services. Included in the survey will be the request for information from the State transportation agencies, on the extent to which they use the private sector for surveying and mapping activities. Information obtained from the survey will be used to issue revised guidance recommending appropriate roles for government and private sector surveying activities and in continuing to encourage States to use private sector sources to provide these services. The survey results will also be used to develop a process for the oversight and regular monitoring of each State's use of the private sector to provide these services.

Respondents: State Transportation Agencies (52, including the District of Columbia and Puerto Rico) in the first year, with follow-up surveys every two years after the initial survey.

Frequency: Every two years after the initial survey.

Estimated Average Burden per Response: 24 hours per participant State and 1.5 hours in the follow-up years.

Estimated Total Annual Burden Hours: Approximately 1,248 hours in the first year and 78 hours in the follow-up years.

Authority: The Paperwork Reduction Act of 1995; 44 U.S.C. Chapter 35, as amended; and 49 CFR 1.48.

Issued On: February 21, 2014.
Michael Howell,
Information Collection Officer.

[FR Doc. 2014-04307 Filed 2-26-14; 8:45 am]

BILLING CODE 4910-22-P